DEPARTMENT OF HEALTH AND HUMAN SERVICES

National Institutes of Health

Center for Scientific Review; Amended Notice of Meeting

Notice is hereby given of a change in the meeting of the Center for Scientific Review Special Emphasis Panel, November 15, 2001, 3 pm to November 15, 2001, 5 pm, NIH, Rockledge 2, Bethesda, MD, 20892 which was published in the Federal Register on November 21, 2001, 66 FR 58510.

The meeting will be held December 5, 2001, from 9:30 am to 12 pm. The location remains the same. The meeting is closed to the public.

Dated: November 23, 2001.
LaVerne Y. Stringfield,
Director, Office of Federal Advisory Committee Policy.

[FR Doc. 01-29698 Filed 11-29-01; 8:45 am]

BILLING CODE 4140-01-M